DEPARTMENT OF ENERGY

DOE Advanced Scientific Computing Advisory Committee

AGENCY: Office of Science, Department of Energy.

ACTION: Notice of open meeting.

SUMMARY: This notice announces an open meeting of the DOE Advanced Scientific Computing Advisory Committee (ASCAC). The Federal Advisory Committee Act requires that public notice of these meetings be announced in the Federal Register.

DATES: Monday, June 12, 2023; 10 a.m. to 6 p.m. EDT, and Tuesday, June 13, 2023; 10 a.m. to 1 p.m. EDT.

ADDRESSES: DoubleTree by Hilton Washington DC Crystal City, 300 Army Navy Drive, Arlington, VA 22202. Teleconference: Virtual attendance of the ASCAC meeting will be possible via Zoom. Instructions will be posted on the ASCAC website at https://science.energy.gov/ascr/ascac/ prior to the meeting, and can also be obtained by contacting Christine Chalk by email at christine.chalk@science.doe.gov or by telephone at (301) 903-7486. Advanced registration is required.

FOR FURTHER INFORMATION CONTACT: Christine Chalk, Office of Advanced Scientific Computing Research; SC-31/Germantown Building; U.S. Department of Energy; 1000 Independence Avenue SW; Washington, DC 20585-1290; Telephone (301) 903-7486; email at christine.chalk@science.doe.gov.

SUPPLEMENTARY INFORMATION:

Purpose of the Committee: The purpose of the committee is to provide advice and guidance on a continuing basis to the Office of Science and the Department of Energy on scientific priorities within the field of advanced scientific computing research.

Purpose of the Meeting: This meeting is the semi-annual meeting of the Committee.

Tentative Agenda:

• View from Germantown

• Update on Exascale project activities

• Update of Oak Ridge Leadership Computing Facility

• Update on planning for an integrated research infrastructure

• Report from Subcommittee on International Competitiveness

• Technical presentations

• Public Comment (10-minute rule)

The meeting agenda includes an update on the budget, accomplishments, and planned activities of the Advanced Scientific Computing Research program and the exascale computing project; technical presentations from funded researchers and industry collaborations; updates from subcommittees, and there will be an opportunity for comments from the public. The meeting will conclude at 1:00 p.m. (eastern time) on June 13, 2023. Agenda updates and presentations will be posted on the ASCAC website prior to the meeting: https://science.osti.gov/ascr/ascac.

Public Participation: The meeting is open to the public. Individuals and representatives of organizations who would like to offer comments and suggestions may do so during the meeting. Approximately 30 minutes will be reserved for public comments. The time allotted per speaker will depend on the number who wish to speak but will not exceed 10 minutes. The Designated Federal Officer is empowered to conduct the meeting in a fashion that will facilitate the orderly conduct of business. Those wishing to speak should submit their request at least five days before the meeting. Those not able to attend the meeting or who have insufficient time to address the committee are invited to send a written statement to Christine Chalk, U.S. Department of Energy, 1000 Independence Avenue SW, Washington, DC 20585, email to Christine.Chalk@science.doe.gov.

Minutes: The minutes of this meeting will be available within 90 days on the Advanced Scientific Computing website at https://science.osti.gov/ascr/ascac.

Signed in Washington, DC, on May 15, 2023.
LaTanya Butler,
Deputy Committee Management Officer.

[FR Doc. 2023-10841 Filed 5-19-23; 8:45 am]

BILLING CODE 6450-01-P